OFFICE OF MANAGEMENT AND BUDGET

Request for Comments on Circular No. A-130, Managing Information as a Strategic Resource

AGENCY: Office of Management and Budget.

ACTION: Notice.

SUMMARY: The Office of Management and Budget is seeking public comment on draft revisions to Circular No. A-130, Managing Information as a Strategic Resource.

DATES: Interested parties may submit comments and feedback by the deadline listed on https://a130.cio.gov.

ADDRESSES: Interested parties should provide comments at the following link: https://a130.cio.gov.

FOR FURTHER INFORMATION CONTACT: Ms. Carol Bales, OMB at a130@omb.eop.gov.

SUPPLEMENTARY INFORMATION: The Office of Management and Budget (OMB) is proposing to revise Circular No. A-130, Managing Information as a Strategic Resource, to incorporate new statutory requirements and enhanced technological capabilities, as well as address current and evolving technical and personnel security threats. Circular No. A-130 establishes general policy for the acquisition and management of information technology personnel, equipment, funds, and other resources. It also includes a discussion of agency responsibilities for managing personally identifiable information, provides guidance to support the use of electronic transactions, and discusses policy on protecting Federal information resources as appendices.

Tony Scott,
Administrator, Office of the Federal Chief Information Officer.
Howard Shelanski,
Administrator, Office of Information and Regulatory Affairs.
Anne Rung,
Administrator, Office of Federal Procurement Policy.

[FR Doc. 2015-26939 Filed 10-21-15; 8:45 am]

BILLING CODE P